DEPARTMENT OF COMMERCE

Census Bureau

Survey of Housing Starts, Sales, and Completions

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATE: Written comments must be submitted on or before April 17, 2000.

ADDRESSES: Direct all written comments to Linda Engelmeier, Departmental Forms Clearance Officer, Department of Commerce, Room 5033, 14th and Constitution Avenue, NW, Washington, DC 20230 (or via the Internet at LEngelme@doc.gov).

FOR FURTHER INFORMATION CONTACT: Requests for additional information or copies of the information collection instrument(s) and instructions should be directed to G. Daniel Sansbury, Census Bureau, Room 2105, FOB 4, Washington, DC 20233-6900, (301) 457-1321.

SUPPLEMENTARY INFORMATION:

I. Abstract

The Census Bureau conducts the Survey of Housing Starts, Sales, and Completions, also known as the Survey of Construction (SOC), to collect monthly data on new residential construction from a sample of owners or builders. The Census Bureau uses the Computer Assisted Personal Interviewing (CAPI) electronic questionnaires SOC-QI/SF.1 and SOC-QI/MF.1 to collect data on starts and completions dates of construction, physical characteristics of the structure (floor area, number of bathrooms, type of heating system, etc.), and if applicable, date of sale, sales price, and type of financing. The SOC program provides widely used measures of construction activity, including the economic indicators Housing Starts, Housing Completions, and New Home Sales. We plan to request a three year extension of the expiration date with no changes to forms SOC-QI/SF.1 and SOC-QI/MF.1.

II. Method of Collection

The Census Bureau uses its field representatives to collect the data. The field representatives conduct interviews to obtain data.

III. Data

OMB Number: 0607-0110.

Form Number: SOC-QI/SF.1 and SOC-QI/MF.1.

Type of Review: Regular Review.

Affected Public: Individuals or households, business or other for-profit institutions.

Estimated Number of Respondents: 8,667.

Estimated Time Per Response: 1.08.

Estimated Total Annual Burden Hours: 9,395.

Estimated Total Annual Cost: The estimated cost to the respondent is $222,560 based on the average hourly pay for respondent to be $23.69.*

* Department of Labor, Bureau of Labor Statistics, Occupational Employment Statistics Survey for 1997.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 8, 2000.
Linda Engelmeier,
Departmental Forms Clearance Officer, Office of the Chief Information Officer.

[FR Doc. 00-3562 Filed 2-14-00; 8:45 am]

BILLING CODE 3510-07-P